DEPARTMENT OF HEALTH AND HUMAN SERVICES

National Institutes of Health

National Institute on Aging; Amended Notice of Meeting

Notice is hereby given of a change in the meeting of the National Institute on Aging Special Emphasis Panel, August 13, 2015, 12:00 p.m. to August 13, 2015, 4:00 p.m., National Institute on Aging, Gateway Building, 7201 Wisconsin Avenue, 2C212, Bethesda, MD 20892 which was published in the Federal Register on July 21, 2015, 80 FR 43101.

The meeting notice is amended to change the date of the meeting from August 13, 2015 to August 12, 2015. The meeting is closed to the public.

Dated: July 21, 2015.
Melanie J. Gray,
Program Analyst, Office of Federal Advisory Committee Policy.

[FR Doc. 2015-18191 Filed 7-23-15; 8:45 am]

BILLING CODE 4140-01-P